SMALL BUSINESS ADMINISTRATION

[Disaster Declaration #17118; California Disaster Number CA-00343 Declaration of Economic Injury]

Administrative Declaration Amendment of an Economic Injury Disaster for the State of California

AGENCY: Small Business Administration.

ACTION: Amendment 1.

SUMMARY: This is an amendment of the Economic Injury Disaster Loan (EIDL) declaration for the State of CALIFORNIA dated 08/26/2021.

Incident: Tamarack Fire.

Incident Period: 07/04/2021 through 10/31/2021.

DATES: Issued on 05/02/2022.

Economic Injury (EIDL) Loan Application Deadline Date: 05/26/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the Administrator's EIDL declaration for the State of California, dated 08/26/2021, is hereby amended to establish the incident period for this disaster as beginning 07/04/2021 and continuing through 10/31/2021.

All other information in the original declaration remains unchanged.

(Catalog of Federal Domestic Assistance Number 59008)

Isabella Guzman,
Administrator.

[FR Doc. 2022-09736 Filed 5-5-22; 8:45 am]

BILLING CODE 8026-03-P